DEPARTMENT OF LABOR

Employment and Training Administration

[TA-W-37, 382]

Alaska Petroleum Contractors Alpine Project Kenai (Kenai, AK; Notice of Negative Determination Regarding Application for Reconsideration

By application dated April 24, 2000, petitioners requested administrative reconsideration of the Department's negative determination regarding eligibility to apply for Trade Adjustment Assistance (TAA), applicable to workers and former workers of the subject firm. The denial notice was signed on April 7, 2000, and published in the Federal Register on April 21, 2000 (64 FR 21474).

Pursuant to 29 CFR 90.18 (c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The April 7, 2000, denial of TAA for workers engaged in employment related to the fabrication and assembly of large oil production modules at Alaska Petroleum Contractors, Alpine Project Kenai, Kenai, Alaska, was based on the finding that the “contributed importantly” test of the worker group eligibility requirements of section 222 of the Trade Act of 1974 was not met. The contributed importantly test is generally determined by a survey of the major declining customers of the subject firm. The Department conducted a survey of the sole customer of Alaska Petroleum Contractors, Alpine Project Kenai, Kenai, Alaska. The customer did not import oil production modules during the time period relevant to the investigation.

The petitioners assert that many U.S. companies bid on the construction of offshore drilling platforms which was awarded to a Korean producer. They add that Alaska Petroleum Contractors would have been able to build this project or continue with planned work and deliver on site, except for cheaper foreign labor and material offered by the Koreans and the drop in crude oil prices brought on by the importation of foreign oil.

The subject firm did not bid on the project identified by the petitioners. The Alpine Project Kenai, Kenai, Alaska, was scheduled for a specific period of time and employee layoffs were the result of the completion of that project. The workers were not engaged in the production of oil, therefore, any increase in imports of crude oil is not a basis for worker group certification for the workers of the subject firm. The Department is required to examine the imports of articles of like or directly competitive with those produced by the workers firm. In this case oil production modules.

Conclusion

After review of the application and investigative findings, I conclude that there has been no error or misinterpretation of the law or of the facts which would justify reconsideration of the Department of Labor's prior decision. Accordingly, the application is denied.

Signed at Washington, DC this 11th day of May 2000.
Grant D. Beale,
Program Manager, Division of Trade Adjustment Assistance.

[FR Doc. 00-12767 Filed 5-19-00; 8:45 am]

BILLING CODE 4510-30-M